DEPARTMENT OF THE INTERIOR

National Park Service

National Register of Historic Places; Notification of Pending Nominations

Nominations for the following properties being considered for listing in the National Register were received by the National Park Service before November 1, 2003. Pursuant to section 60.13 of 36 CFR part 60 written comments concerning the significance of these properties under the National Register criteria for evaluation may be forwarded by United States Postal Service, to the National Register of Historic Places, National Park Service, 1849 C St. NW, 2280, Washington, DC 20240; by all other carriers, National Register of Historic Places, National Park Service,1201 Eye St. NW., 8th floor, Washington DC 20005; or by fax, 202-371-6447. Written or faxed comments should be submitted by December 4, 2003.

Carol D. Shull,
Keeper of the National Register of Historic Places.

Iowa

Polk County

Hotel Kirkwood, 400 4th St. (400 Walnut St.), Des Moines, 03001256

Linden Heights Historic District, Foster Dr., Glenview Dr., Woodlawn, Park Hill Dr. W of SW 42nd St., Des Moines, 03001262

Kansas

Douglas County

Coal Creek Library, 698 E. 1719 Rd., Baldwin City, 03001257

Pratt County

Thornton Adobe Barn, 1 mi. E and 1.25 mi N of Isabel, Isabel, 03001258

Thomas County

Colby City Hall, (New Deal-Era Resources of Kansas MPS) 585 N. Franklin Ave., Colby, 03001259

Colby Community High School, (New Deal-Era Resources of Kansas MPS) 750 W. Third St., Colby, 03001260

Maryland

Baltimore Independent city

Miller, H.F. Miller & Son Tin Box and Can Manufacturing Plant, 2601 N. Howard St., Baltimore (Independent City), 03001268

Carroll County

Englar—Scweigart—Rinehart Farm, 47 Rockland Rd., Westminster, 03001267

Queen Anne's County

Female Seminary, 205-207 S. Commerce St., Centreville, 03001266

Massachusetts

Bristol County

Common Avenue Historic District, Commonwealth Ave., N side from Stanley St. to beyond Robinson St., North Attleborough, 03001261

Cottage—Freeman Historic District, Cottage St. Freeman St., from Commonwealth Ave. to Ten Mile River and Park Ln., North Attleborough, 03001263

Essex County

Ann's Diner, (Diners of Massachusetts MPS) 11 Bridge Rd. (US 1), Salisbury, 03001264

Missouri

Cape Girardeau County

Wood Building, (Cape Girardeau, Missouri MPS) 1-3 S. Frederick and 605-607 Independence Sts., Cape Girardeau, 03001269

New Hampshire

Carroll County

North Conway 5 and 10 Cent Store, 2683 Main St., North Conway, 03001282

Coos County

Meadow Bridge, Spur of North Rd. in Ahelburne across the Androscoggin R., Shelburne, 03001284

Hillsborough County

Nichols, Marion, Summer Home, 56 Love Lane, Hollis, 03001283

New Jersey

Camden County

Church of the Immaculate Conception, 642 Market St., Camden, 03001277

Middlesex County

St. Mary's Church, Jct. of Jackson St. and Whitehead Ave., South River Borough, 03001276

Somerset County

Gurlick, Dirck, House, 506 Belle Mead—Blawenburg Rd., Montgomery Township, 03001285

New York

Albany County

Babcock, Dr. John, House, 101 Lasher Rd., Selkirk, 03001278

Cayuga County

Mosher Farmstead, 1016 Sherwood Rd., Aurora, 03001280

Saratoga County

Berry, Col. Sidney, House, 725 W. River Rd., Northumberland, 03001281

Gideon Putnam Burying Ground, Franklin St., Saratoga Springs, 03001279

North Carolina

Cabarrus County

Union Street Nourth—Cabarrus Avenue Commercial Historic District, Roughly Union St. N, Cabarrus Ave. E, Cabarrus Ave. W, and Church St. S, Concord, 03001272

Duplin County

Kenansville Historic District (Boundary Decrease), NC 24, cic. of Bostic and Stokes Sts., Stokes St. from S. Main St. to Seminary St., Kenansville, 03001271

Lincoln County

Laboratory Historic District, Jct. of Laboratory Rd. and S. Fork Rd., Laboratory, 03001273

Mecklenburg County

Grinnell Company—General Fire Extinquisher Company Complex, 1431 W. Morehead St., Charlotte, 03001275

Mitchell County

Penland School Historic District, NC 1164 (Conley Ridge Rd.), Penland, 03001270

New Hanover County

Sunset Park Historic District, Roughly bounded by Carolina Beach Rd., Southern Blvd., Burnett Blvd., and Sunset Ave., Wilmington, 03001265

Scotland County

Laurinburg Commercial Historic District, Roughly bounded by Church, Atkinson, Biggs Sts. and the Laurinburg and Sourthern RR, Laurinburg, 03001274

Ohio

Hamilton County

Glencoe-Auburn Hotel and Clecoe-Auburn Place Row Houses, Glencoe Place, Leroy Court, View Court, Cincinnati, 03001286

Montgomery County

Exposition Hall, Montgomery County Fairgrounds, Montgomery County Fairgrounds, 1043 S. Main St., Dayton, 03001287

South Carolina

Aiken County

US Court House—Aiken, South Carolina, 223 Park Ave., SE, Aiken, 03001288

A request for REMOVAL has been made for the following reasons:

Iowa

Calhoun County

Welsh Bridge, (Highway Bridges of Iowa MPS), 1st Ave. Over Welsh's Slough, Somers, 98000751

Clayton County

County Road Bridge 15, (Highway Bridges of Iowa MPS), County Road over unnamed stream, Elkader vicinity, 98000804

Des Moines County

Yellow Spring Creek Bridge, (Highway Bridges of Iowa MPS), Sperry Rd. Over Yellow Spring Cr., Mediapolis vicinity, 98000791

Story County

Soper's Mill Bridge, N of Ames off IA 35, Ames vicinity, 78001261

Tennessee

White County

Oldham Theater, W. Liberty Sq., Sparta, 93001188

[FR Doc. 03-28841 Filed 11-18-03; 8:45 am]

BILLING CODE 4312-51-P